DEPARTMENT OF ENERGY

Federal Energy Regulatory Commission

[Project No. 5931-026]

Roseburg Resources Company, Mega Renewables, Shasta Cascade Timberlands LLC; Notice of Application for Partial Transfer of License and Soliciting Comments, Motions To Intervene, and Protests

On November 2, 2017, Roseburg Resources Company (Roseburg) and Mega Renewables (Mega) (co-licensees/transferors) and Shasta Cascade Timberlands LLC (Shasta/transferee) filed an application to partially transfer the license for the Hatchet Creek Project No. 5931. The project is located on Hatchet Creek in Shasta County, California. The project does not occupy Federal lands.

The applicants seek Commission approval to partially transfer the license for the Hatchet Creek Project from Roseburg Resources Company and Mega Renewables as co-licensees, to remove Roseburg Resources Company as a co-licensee and add Shasta Cascade Timberlands LLC as a co-licensee.

Applicants Contact: For transferors: Roseburg: Ms. Cherise M. Gaffney and Mr. Jared R. Wigginton, Stoel Rives LLP, 600 University Street, Suite 3600, Seattle, Washington 98101, Phone: 206-386-7622, Fax: 206-386-7500, Emails: cherise.gaffney@stoel.com and jared.wigginton@stoel.com.

Mega: Mr. Mike Knapp, Berg & Berg Enterprises LLC, 10050 Bandley Drive, Cupertino, CA 95014, Phone: 408-725-7620, Email: mknapp@bergvc.com.

For transferee: Shasta: Mr. Gregory Fullem and Mr. William J. Ohle, Schwabe Williamson & Wyatt, 1211 SW Fifth Ave., Suites 1500-1900, Portland, OR 97204, Phone: 503-222-9981, Fax: 503-796-2900, Emails: gfullem@schwabe.com and wohle@schwabe.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-5931-026.

Dated: November 28, 2017.
Kimberly D. Bose,
Secretary.

[FR Doc. 2017-26033 Filed 12-1-17; 8:45 am]

BILLING CODE 6717-01-P